DEPARTMENT OF JUSTICE

Notice of Lodging of Consent Decree Under the Park System Resource Protection Act (“PSRPS”)

Pursuant to 28 CFR 50.7, notice is hereby given that on May 5, 2005, a proposed Consent Decree in Travelers v. Nudel and United States and United States v. Nudel and MV/GI Jack, 04-20015-CIV-Cooke/Brown (S.D.Fl.), was lodged with the United States District Court for the Southern District of Florida.

In this action the United States sought to recover against Defendants Jack Nudel and M/V GI Jack costs for response and damage assessment and damages arising from the grounding of the M/V GI Jack in Biscayne National Park on November 12, 2001.

Under the Consent Decree, Defendant Nudel will perform primary restoration of seagrass damaged by the grounding and compensatory restoration of an area near the grounding site. Defendant Nudel will also pay the United States $3,272.58 in reimbursement of the United States' damage assessment and response costs and $7,000 toward the cost of National Park Service oversight of the restoration work.

The Department of Justice will receive for a period of fifteen (15) days from the date of this publication comments relating to the Consent Decree. Comments should be addressed to the Assistant Attorney General, Environment and Natural Resources Division, P.O. Box 7611, U.S. Department of Justice, Washington, DC 20044-7611, and should refer to Travelers v. Nudel and United States and United States v. Nudel and M/V GI Jack, 04-20015-CIV-Cooke/Brown (S.D.Fl.), DOJ Ref. 90-11-2-08248.

The Consent Decree may be examined at the Office of the United States Attorney, Southern District of Florida, 99 NE. 4th Street, Civil Division, Suite 300, Miami, Florida 33132, and at the National Park Service, Environmental Quality Division, Environmental Response, Damage Assessment and Restoration Branch, 77 Forsyth Street, SW., Suite G-4, Atlanta, Georgia 30303. During the public comment period, the Consent Decree may also be examined on the following Department of Justice Web site http://www.usdoj.gov/enrd/open.htm. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please refer to Travelers v. Nudel and United States and United States v. Nudel and M/V GI Jack, 04-20015-CIV-Cooke/Brown (S.D.Fl.), DOJ Ref. 90-11-2-08248, and enclose a check in the amount of $7.25 (25 cents per page reproduction cost) payable to the U.S. Treasury.

W. Benjamin Fisherow,
Deputy Section Chief, Environmental Enforcement Section, Environment & Natural Resources Division.

[FR Doc. 05-9438 Filed 5-11-05; 8:45 am]

BILLING CODE 4410-15-M